FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 4, 2006.

A. Federal Reserve Bank of New York (Jay Bernstein, Bank Supervision Officer) 33 Liberty Street, New York, New York 10045-0001:

1. Jacinto Rodrigues and Joaquina Rodrigues, both of Warren, New Jersey; to acquire voting shares of CGD-USA Holding Company, Inc., New York, New York, and thereby indirectly acquire Crown Bank, N.A., Ocean City, New Jersey.

B. Federal Reserve Bank of St. Louis (Glenda Wilson, Community Affairs Officer) 411 Locust Street, St. Louis, Missouri 63166-2034:

1. The Ferguson Family Control Group, consisting of Carolyn Ferguson Pryor, Jackson, Mississippi; Nancy Ferguson Rasco, Hot Springs, Arkansas; Rebecca Ferguson Ehrlicher, Memphis, Tennessee; the Carolyn F. Pryor Trust, DeWitt, Arkansas (Carolyn Ferguson Pryor and DeWitt Bank & Trust, DeWitt, Arkansas, as co-trustees); the Nancy F. Rasco Trust, DeWitt, Arkansas (Nancy Ferguson Rasco and DeWitt Bank & Trust as co-trustees); the Rebecca F. Ehrlicher Trust, DeWitt, Arkansas (Rebecca Ferguson Ehrlicher and DeWitt Bank & Trust as co-trustees); the Charles W. Rasco III Marital Trust (DeWitt Bank & Trust as trustee); and the Elmer Ferguson Farms, Inc., DeWitt, Arkansas; to retain voting shares of DBT Financial Corporation, DeWitt, Arkansas, and thereby indirectly acquire additional voting shares of DeWitt Bank and Trust Company, DeWitt, Arkansas.

Board of Governors of the Federal Reserve System, December 15, 2005.
Robert deV. Frierson,
Deputy Secretary of the Board.

[FR Doc. E5-7555 Filed 12-19-05; 8:45 am]

BILLING CODE 6210-01-S